DEPARTMENT OF TRANSPORTATION

Federal Aviation Administration

14 CFR Part 97

[Docket No. 31157; Amdt. No. 3767]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective October 19, 2017. The compliance date for each SIAP, associated Takeoff Minimums, and ODP is specified in the amendatory provisions.

The incorporation by reference of certain publications listed in the regulations is approved by the Director of the Federal Register as of October 19, 2017.

ADDRESSES: Availability of matters incorporated by reference in the amendment is as follows:

For Examination

1. U.S. Department of Transportation, Docket Ops-M30, 1200 New Jersey Avenue SE., West Bldg., Ground Floor, Washington, DC, 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, part 97 (14 CFR part 97), by establishing, amending, suspending, or removes SIAPs, Takeoff Minimums and/or ODPs. The complete regulatory description of each SIAP and its associated Takeoff Minimums or ODP for an identified airport is listed on FAA form documents which are incorporated by reference in this amendment under 5 U.S.C. 552(a), 1 CFR part 51, and 14 CFR part § 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPs, Takeoff Minimums and/or ODPs as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on September 22, 2017.
John S. Duncan,
Director, Flight Standards Service.

Adoption of the Amendment

Accordingly, pursuant to the authority delegated to me, Title 14, Code of Federal Regulations, part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 9 November 2017

Birmingham, AL, Birmingham-Shuttlesworth Intl, ILS OR LOC RWY 24, ILS RWY 24 (SA CAT II), Amdt 4A

Birmingham, AL, Birmingham-Shuttlesworth Intl, RNAV (GPS) Y RWY 24, Amdt 4A

San Diego, CA, Montgomery—Gibbs Executive, Takeoff Minimums and Obstacle DP, Amdt 4

Iowa City, IA, Iowa City Muni, RNAV (GPS) RWY 25, Orig-C

Newberry, MI, Luce County, VOR RWY 11, Amdt 12, CANCELED

Eveleth, MN, Eveleth-Virginia Muni, Takeoff Minimums and Obstacle DP, Amdt 3A

Eveleth, MN, Eveleth-Virginia Muni, VOR RWY 27, Amdt 1B

Eveleth, MN, Eveleth-Virginia Muni, VOR-A, Amdt 2A

Minneapolis, MN, Minneapolis-St Paul Intl/Wold-Chamberlain, RNAV (GPS) RWY 4, Amdt 2C

St Louis, MO, St Louis Lambert Intl, ILS OR LOC RWY 6, Amdt 1G

Effective 7 December 2017

Springdale, AR, Springdale Muni, ILS OR LOC RWY 18, Amdt 9

Sacramento, CA, Sacramento Intl, ILS OR LOC RWY 34L, Amdt 7F

Destin, FL, Destin Executive, RNAV (GPS) RWY 14, Amdt 2C

Destin, FL, Destin Executive, RNAV (GPS) RWY 32, Amdt 1C

Destin, FL, Destin Executive, Takeoff Minimums and Obstacle DP, Orig-C

Orlando, FL, Orlando Intl, Takeoff Minimums and Obstacle DP, Amdt 3A

Pensacola, FL, Pensacola International, NDB RWY 35, Amdt 17B, CANCELED

West Palm Beach, FL, North Palm Beach County General Aviation, ILS OR LOC RWY 9R, Amdt 2

West Palm Beach, FL, North Palm Beach County General Aviation, RNAV (GPS) RWY 9R, Amdt 2

West Palm Beach, FL, North Palm Beach County General Aviation, RNAV (GPS) RWY 14, Amdt 1

West Palm Beach, FL, North Palm Beach County General Aviation, RNAV (GPS) RWY 27L, Amdt 2

West Palm Beach, FL, North Palm Beach County General Aviation, Takeoff Minimums and Obstacle DP, Amdt 1

West Palm Beach, FL, North Palm Beach County General Aviation, VOR RWY 9R, Amdt 2

Augusta, GA, Augusta Rgnl At Bush Field, RNAV (GPS) RWY 35, Amdt 2B

Savannah, GA, Savannah/Hilton Head Intl, Takeoff Minimums and Obstacle DP, Amdt 7

Boise, ID, Boise Air Terminal/Gowen Fld, Boise, GOWEN FOUR, Graphic DP

Boise, ID, Boise Air Terminal/Gowen Fld, Boise, ILS OR LOC RWY 28R, Orig-A

Boise, ID, Boise Air Terminal/Gowen Fld, Boise, ILS Y OR LOC Y RWY 10R, ILS Y RWY 10R (SA CAT I), ILS Y RWY 10R (CAT II), ILS Y RWY 10R (CAT III), Amdt 12A

Boise, ID, Boise Air Terminal/Gowen Fld, Boise, NDB RWY 10R, Amdt 28B

Boise, ID, Boise Air Terminal/Gowen Fld, Boise, RNAV (GPS) Y RWY 10L, Amdt 3A

Boise, ID, Boise Air Terminal/Gowen Fld, Boise, RNAV (GPS) Y RWY 10R, Amdt 2A

Boise, ID, Boise Air Terminal/Gowen Fld, Boise, RNAV (GPS) Y RWY 28L, Amdt 5A

Boise, ID, Boise Air Terminal/Gowen Fld, Boise, RNAV (GPS) Y RWY 28R, Amdt 6A

Boise, ID, Boise Air Terminal/Gowen Fld, Boise, RNAV (RNP) X RWY 28L, Orig-A

Boise, ID, Boise Air Terminal/Gowen Fld, Boise, RNAV (RNP) X RWY 28R, Orig-A

Boise, ID, Boise Air Terminal/Gowen Fld, Boise, RNAV (RNP) Z RWY 10L, Amdt 1A

Boise, ID, Boise Air Terminal/Gowen Fld, Boise, RNAV (RNP) Z RWY 10R, Amdt 1A

Boise, ID, Boise Air Terminal/Gowen Fld, Boise, RNAV (RNP) Z RWY 28L, Amdt 1A

Boise, ID, Boise Air Terminal/Gowen Fld, Boise, RNAV (RNP) Z RWY 28R, Amdt 1A

Burley, ID, Burley Muni, VOR-A, Amdt 5A

Chicago/Waukegan, IL, Waukegan National, ILS OR LOC RWY 23, Amdt 5A

Chicago/Waukegan, IL, Waukegan National, RNAV (GPS) RWY 5, Orig-A

Chicago/Waukegan, IL, Waukegan National, RNAV (GPS) RWY 23, Orig-A

Chicago/Waukegan, IL, Waukegan National, Takeoff Minimums and Obstacle DP, Amdt 1A

Indianapolis, IN, Indy South Greenwood, RNAV (GPS) RWY 19, Amdt 1B

Indianapolis, IN, Indy South Greenwood, VOR-A, Amdt 5B

Madison, IN, Madison Muni, RNAV (GPS) Y RWY 3, Orig

Madison, IN, Madison Muni, RNAV (GPS) Z RWY 3, Amdt 2

Great Bend, KS, Great Bend Muni, ILS OR LOC RWY 35, Orig-C

Great Bend, KS, Great Bend Muni, NDB RWY 35, Amdt 3A

Great Bend, KS, Great Bend Muni, RNAV (GPS) RWY 17, Orig-B

Hutchinson, KS, Hutchinson Rgnl, ILS OR LOC RWY 13, Amdt 17

Hutchinson, KS, Hutchinson Rgnl, LOC BC RWY 31, Amdt 15

Hutchinson, KS, Hutchinson Rgnl, NDB RWY 13, Amdt 16

Hutchinson, KS, Hutchinson Rgnl, RNAV (GPS) RWY 4, Amdt 1

Hutchinson, KS, Hutchinson Rgnl, RNAV (GPS) RWY 13, Amdt 1

Hutchinson, KS, Hutchinson Rgnl, RNAV (GPS) RWY 17, Orig

Hutchinson, KS, Hutchinson Rgnl, RNAV (GPS) RWY 22, Amdt 1

Hutchinson, KS, Hutchinson Rgnl, RNAV (GPS) RWY 31, Amdt 2

Hutchinson, KS, Hutchinson Rgnl, RNAV (GPS) RWY 35, Orig

Hutchinson, KS, Hutchinson Rgnl, Takeoff Minimums and Obstacle DP, Amdt 6

Hutchinson, KS, Hutchinson Rgnl, VOR RWY 4, Amdt 20

Hutchinson, KS, Hutchinson Rgnl, VOR RWY 22, Amdt 7

Kingman, KS, Kingman Airport—Clyde Cessna Field, VOR/DME RWY 18, Amdt 2, CANCELED

Lyons, KS, Lyons-Rice County Muni, VOR-A, Amdt 4A

Mc Pherson, KS, Mc Pherson, VOR RWY 36, Amdt 6B

Pratt, KS, Pratt Rgnl, NDB RWY 17, Amdt 5A

Salina, KS, Salina Rgnl, ILS OR LOC RWY35, Amdt 19B

Wellington, KS, Wellington Muni, VOR RWY 17, Amdt 2B

Russellville, KY, Russellville-Logan County, RNAV (GPS) RWY 7, Amdt 1

Russellville, KY, Russellville-Logan County, RNAV (GPS) RWY 25, Amdt 1

Russellville, KY, Russellville-Logan County, Takeoff Minimums and Obstacle DP, Amdt 4

Lafayette, LA, Lafayette Rgnl/Paul Fournet Field, ILS OR LOC RWY 4R, Amdt 2D

Lafayette, LA, Lafayette Rgnl/Paul Fournet Field, RNAV (GPS) RWY 4R, Amdt 1C

Worcester, MA, Worcester Rgnl, ILS OR LOC RWY 11, ILS RWY 11 (CAT II), ILS RWY 11 (CAT III), Amdt 25

Cambridge, MD, Cambridge-Dorchester Rgnl, RNAV (GPS)-A, Orig

Jackson, MI, Jackson County-Reynolds Field, ILS OR LOC RWY 24, Amdt 14A, CANCELED

Jackson, MI, Jackson County-Reynolds Field, ILS OR LOC RWY 25, Orig

Jackson, MI, Jackson County-Reynolds Field, RNAV (GPS) RWY 6, Orig, CANCELED

Jackson, MI, Jackson County-Reynolds Field, RNAV (GPS) RWY 7, Orig

Jackson, MI, Jackson County-Reynolds Field, RNAV (GPS) RWY 14, Amdt 1B

Jackson, MI, Jackson County-Reynolds Field, RNAV (GPS) RWY 24, Orig, CANCELED

Jackson, MI, Jackson County-Reynolds Field, RNAV (GPS) RWY 25, Orig

Jackson, MI, Jackson County-Reynolds Field, RNAV (GPS) RWY 32, Orig-D

Jackson, MI, Jackson County-Reynolds Field, VOR RWY 6, Amdt 20, CANCELED

Jackson, MI, Jackson County-Reynolds Field, VOR RWY 14, Amdt 20, CANCELED

Jackson, MI, Jackson County-Reynolds Field, VOR RWY 32, Amdt 18, CANCELED

Cook, MN, Cook Muni, RNAV (GPS) RWY 13, Orig-B

Cook, MN, Cook Muni, RNAV (GPS) RWY 31, Amdt 1B

Kansas City, MO, Kansas City Intl, ILS OR LOC RWY 1L, Amdt 15B

Kansas City, MO, Kansas City Intl, ILS OR LOC RWY 19L, Amdt 2B

Kansas City, MO, Kansas City Intl, RNAV (GPS) Y RWY 1L, Amdt 2B

Kansas City, MO, Kansas City Intl, RNAV (GPS) Y RWY 19L, Amdt 2B

Kansas City, MO, Kansas City Intl, RNAV (RNP) Z RWY 1L, Amdt 1C

Meridian, MS, Key Field, RADAR 1, Orig, CANCELED

Laurel, MT, Laurel Muni, VOR RWY 22, Amdt 2A

Wolf Point, MT, L M Clayton, NDB RWY 29, Amdt 4A, CANCELED

Asheville, NC, Asheville Rgnl, Takeoff Minimums and Obstacle DP, Amdt 1

Jamestown, ND, Jamestown Rgnl, ILS OR LOC RWY 31, Amdt 8

Jamestown, ND, Jamestown Rgnl, LOC BC RWY 13, Amdt 8

Jamestown, ND, Jamestown Rgnl, RNAV (GPS) RWY 4, Orig-B

Jamestown, ND, Jamestown Rgnl, RNAV (GPS) RWY 13, Orig-A

Jamestown, ND, Jamestown Rgnl, RNAV (GPS) RWY 22, Amdt 1

Jamestown, ND, Jamestown Rgnl, RNAV (GPS) RWY 31, Amdt 1

Jamestown, ND, Jamestown Rgnl, VOR RWY 13, Amdt 8A

Jamestown, ND, Jamestown Rgnl, VOR RWY 31, Amdt 9A

Williston, ND, Sloulin Fld Intl, ILS OR LOC RWY 29, Amdt 4A

Norfolk, NE., Norfolk Rgnl/Karl Stefan Memorial Fld, ILS OR LOC RWY 1, Amdt 6

Taos, NM, Taos Rgnl, RNAV (GPS) RWY 13, Orig

Taos, NM, Taos Rgnl, Takeoff Minimums and Obstacle DP, Amdt 2

Endicott, NY, Tri-Cities, RNAV (GPS) RWY 3, Orig-B

Endicott, NY, Tri-Cities, RNAV (GPS) RWY 21, Orig-B

Westhampton Beach, NY, Francis S Gabreski, ILS OR LOC RWY 24, Amdt 11

Cleveland, OH, Cleveland-Hopkins Intl, ILS OR LOC RWY 6L, ILS RWY 6L (CAT II), ILS RWY 6L (CAT III), Amdt 2G

Cleveland, OH, Cleveland-Hopkins Intl, ILS OR LOC RWY 6R, ILS RWY 6R (SA CAT II), Amdt 21D

Cleveland, OH, Cleveland-Hopkins Intl, ILS OR LOC RWY 24L, ILS RWY 24L (SA CAT II), Amdt 22D

Cleveland, OH, Cleveland-Hopkins Intl, ILS OR LOC RWY 24R, ILS RWY 24R (SA CAT I), ILS RWY 24R (CAT II), ILS RWY 24R (CAT III), Amdt 5D

Cleveland, OH, Cleveland-Hopkins Intl, ILS OR LOC RWY 28, Amdt 24D

Cleveland, OH, Cleveland-Hopkins Intl, RNAV (GPS) RWY 6L, Amdt 1E

Cleveland, OH, Cleveland-Hopkins Intl, RNAV (GPS) RWY 6R, Amdt 2E

Cleveland, OH, Cleveland-Hopkins Intl, RNAV (GPS) RWY 10, Amdt 3B

Cleveland, OH, Cleveland-Hopkins Intl, RNAV (GPS) RWY 24L, Amdt 3E

Cleveland, OH, Cleveland-Hopkins Intl, RNAV (GPS) RWY 24R, Amdt 3E

Cleveland, OH, Cleveland-Hopkins Intl, RNAV (GPS) RWY 28, Amdt 2B

Newark, OH, Newark-Heath, RNAV (GPS) RWY 9, Amdt 1

Newark, OH, Newark-Heath, RNAV (GPS) RWY 27, Amdt 2

Oklahoma City, OK, Will Rogers World, ILS OR LOC RWY 17L, Amdt 3C

Oklahoma City, OK, Will Rogers World, ILS OR LOC RWY 35L, Amdt 2C

Oklahoma City, OK, Will Rogers World, ILS OR LOC RWY 35R, ILS RWY 35R (SA CAT I), ILS RWY 35R (CAT II), Amdt 10C

Oklahoma City, OK, Will Rogers World, RNAV (GPS) RWY 13, Amdt 3C

Oklahoma City, OK, Will Rogers World, RNAV (GPS) RWY 31, Amdt 1C

Oklahoma City, OK, Will Rogers World, RNAV (GPS) Y RWY 17L, Amdt 3C

Oklahoma City, OK, Will Rogers World, RNAV (GPS) Y RWY 17R, Amdt 4C

Oklahoma City, OK, Will Rogers World, RNAV (GPS) Y RWY 35L, Amdt 4B

Oklahoma City, OK, Will Rogers World, RNAV (GPS) Y RWY 35R, Amdt 3C

Oklahoma City, OK, Will Rogers World, RNAV (RNP) Z RWY 17L, Amdt 3C

Oklahoma City, OK, Will Rogers World, RNAV (RNP) Z RWY 35L, Amdt 1C

Oklahoma City, OK, Will Rogers World, RNAV (RNP) Z RWY 35R, Amdt 2C

Pendleton, OR, Eastern Oregon Rgnl at Pendleton, RNAV (GPS) RWY 25, Orig-A

Altoona, PA, Altoona-Blair County, ILS OR LOC RWY 21, Amdt 8C

Altoona, PA, Altoona-Blair County, Takeoff Minimums and Obstacle DP, Amdt 5

Altoona, PA, Altoona-Blair County, VOR-A, Amdt 5B, CANCELED

Bedford, PA, Bedford County, VOR-A, Amdt 1B

Providence, RI, Theodore Francis Green State, ILS OR LOC RWY 5, ILS RWY 5 (CAT II), ILS RWY 5 (CAT III), Amdt 20

Providence, RI, Theodore Francis Green State, ILS OR LOC RWY 23, ILS RWY 23 (SA CAT I), ILS RWY 23 (SA CAT II), Amdt 8

Providence, RI, Theodore Francis Green State, RNAV (GPS) RWY 5, Amdt 1

Providence, RI, Theodore Francis Green State, Takeoff Minimums and Obstacle DP, Amdt 13

Providence, RI, Theodore Francis Green State, VOR RWY 5, Amdt 15

Providence, RI, Theodore Francis Green State, VOR Y RWY 34, Amdt 5

Providence, RI, Theodore Francis Green State, VOR Z RWY 34, Amdt 6

Brookings, SD, Brookings Rgnl, ILS OR LOC RWY 12, Orig-B

Spearfish, SD, Black Hills-Clyde Ice Field, NDB-A, Amdt 1A, CANCELED

Bristol/Johnson/Kingsport, TN, Tri-Cities, TRICITIES THREE, Graphic DP

Chattanooga, TN, Lovell Field, RADAR-1, Amdt 9, CANCELED

Jackson, TN, Mc Kellar-Sipes Rgnl, VOR RWY 2, Orig

Eastland, TX, Eastland Muni, RNAV (GPS) RWY 17, Orig-C

Eastland, TX, Eastland Muni, RNAV (GPS) RWY 35, Amdt 2B

Tyler, TX, Tyler Pounds Rgnl, RNAV (GPS) RWY 31, Amdt 2B

Vernal, UT, Vernal Rgnl, RNAV (GPS) Y RWY 35, Orig

Vernal, UT, Vernal Rgnl, RNAV (GPS) Z RWY 35, Orig

Vernal, UT, Vernal Rgnl, Takeoff Minimums and Obstacle DP, Amdt 2

Vernal, UT, Vernal Rgnl, VOR RWY 35, Orig

Norfolk, VA, Norfolk Intl, ILS OR LOC RWY 23, Amdt 8

Norfolk, VA, Norfolk Intl, RNAV (GPS) RWY 14, Amdt 1

Norfolk, VA, Norfolk Intl, VOR RWY 14, Amdt 3

Wenatchee, WA, Pangborn Memorial, VOR-A, Amdt 9B

Wenatchee, WA, Pangborn Memorial, VOR-B, Orig-B

Lake Geneva, WI, Grand Geneva Resort, Takeoff Minimums and Obstacle DP, Amdt 1A

Charleston, WV, Yeager, RNAV (GPS) Y RWY 23, Amdt 1B

Summersville, WV, Summersville, RNAV (GPS) RWY 4, Orig-A, CANCELED

Summersville, WV, Summersville, RNAV (GPS)-A, Orig

[FR Doc. 2017-22497 Filed 10-18-17; 8:45 am]

BILLING CODE 4910-13-P